DEPARTMENT OF THE TREASURY

Internal Revenue Service

Recruitment Notice for the Taxpayer Advocacy Panel

AGENCY: Internal Revenue Service (IRS) Treasury.

ACTION: Notice.

SUMMARY: Notice of Open Season for Recruitment of IRS Taxpayer Advocacy Panel (TAP) Members

DATES: March 8, 2017 through April 24, 2017.

FOR FURTHER INFORMATION CONTACT: Fred N. Smith, Jr. 202-317-3087 (not a toll-free call).

SUPPLEMENTARY INFORMATION: Notice is hereby given that the Department of the Treasury and the Internal Revenue Service (IRS) are inviting individuals to help improve the nation's tax agency by applying to be members of the Taxpayer Advocacy Panel (TAP). The mission of the TAP is to listen to taxpayers, identify issues that affect taxpayers, and make suggestions for improving IRS service and customer satisfaction. The TAP serves as an advisory body to the Secretary of the Treasury, the Commissioner of Internal Revenue, and the National Taxpayer Advocate. TAP members will participate in subcommittees that channel their feedback to the IRS through the Panel's parent committee.

The IRS is seeking applicants who have an interest in good government, a personal commitment to volunteer approximately 200 to 300 hours a year, and a desire to help improve IRS customer service. As a federal advisory committee, TAP is required to have membership be fairly balanced in terms of the points of view represented. Thus, TAP membership represents a cross-section of the taxpaying public with at least one member from each state, the District of Columbia and Puerto Rico, in addition to one member representing international taxpayers. For application purposes, “international taxpayers” are defined broadly to include U.S. citizens working, living, or doing business abroad or in a U.S. territory. Potential candidates must be U.S. citizens and must pass a federal tax compliance check and a Federal Bureau of Investigation criminal background investigation. Applicants who practice before the IRS must be in good standing with the IRS. Federally-registered lobbyists cannot be members of the TAP. Current employees of any Bureau of the Treasury Department or have worked for any Bureau of the Treasury Department within three years of December 1 of the current year are not eligible. The IRS is seeking members or alternates in the following locations:

Locations that need Members:

Alaska, Arizona, California, Delaware, District of Columbia, Georgia, Idaho, Indiana, Kansas, Louisiana, Massachusetts, Maryland, New Jersey, Nevada, North Dakota, Ohio, Oregon, Pennsylvania, Utah, Virginia, Vermont, and Washington. The TAP is also seeking to include at least one (1) additional member to represent international taxpayers. For these purposes, “international taxpayers” are broadly defined to include U.S. citizens working, living, or doing business abroad or in a U.S. territory.

Locations that need Alternates:

All 50 states, District of Columbia and Puerto Rico, but specifically Colorado, Iowa, Indiana, Michigan, Missouri, Mississippi and Nebraska.

TAP members are a diverse group of citizens who represent the interests of taxpayers from their respective geographic locations by providing feedback from a taxpayer's perspective on ways to improve IRS customer service and administration of the federal tax system, and by identifying grassroots taxpayer issues. Members should have good communication skills and be able to speak to taxpayers about TAP and its activities, while clearly distinguishing between TAP positions and their personal viewpoints.

Interested applicants should visit the TAP Web site at www.improveirs.org for more information about TAP. Applications must be submitted electronically at www.usajobs.gov. For questions about TAP membership, call the TAP toll-free number, 1-888-912-1227. Callers who are outside of the U.S. and U.S. territories should call 202-317-3087 (not a toll-free call).

The opening date for submitting applications is March 8, 2017, and the deadline for submitting applications is April 24, 2017. Interviews may be held. The Department of the Treasury will review the recommended candidates and make final selections. New TAP members will serve a three-year term starting in December 2017. (Note: highly-ranked applicants not selected as members may be placed on a roster of alternates who will be eligible to fill future vacancies that may occur on the Panel.)

Questions regarding the selection of TAP members may be directed to Fred N. Smith, Jr., Taxpayer Advocacy Panel, Internal Revenue Service, 1111 Constitution Avenue NW., TA:TAP Room 1509, Washington, DC 20224, or 202-317-3087 (not a toll-free call).

Dated: March 8, 2017.
Antoinette Ross,
Acting Director, Taxpayer Advocacy Panel.

[FR Doc. 2017-05067 Filed 3-14-17; 8:45 am]

BILLING CODE 4830-01-P